DEPARTMENT OF TRANSPORTATION

Office of the Secretary

Notice of Applications for Certificates of Public Convenience and Necessity and Foreign Air Carrier Permits Filed Under Subpart B (Formerly Subpart Q) During the Week Ending August 17, 2007

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-29028.

Date Filed: August 14, 2007.

Due Date for Answers, Conforming Applications, or Motion to Modify Scope: September 4, 2007.

Description: Application of Societe Air France (“Air France”) requesting an exemption and an amended foreign air carrier permit authorizing Air France to conduct operations to and from the United States to the full extent authorized by the recently-signed United States-European Union Air Transport Agreement, for flight operations on or after March 30, 2008, including authority to engage in: (i) Foreign scheduled and charter air transportation of persons, property, and mail from any point or points behind any Member States of the European Union, via any point or points in any Member State and via intermediate point or points in the United States and beyond; (ii) foreign scheduled and charter air transportation of persons, property and mail between any point or points in the United States and any point or points in any member of the European Common Aviation Area; (iii) foreign scheduled and charter cargo air transportation between any point or points in the United States and any point or points; (iv) other charters pursuant to 14 CFR Part 212; and (v) transportation authorized by any additional route rights made available to European Community carriers in the future.

Docket Number: OST-2007-29037.

Date Filed: August 15, 2007.

Due Date for Answers, Conforming Applications, or Motion to Modify Scope: September 5, 2007.

Description: Application of Deutsche Lufthansa AG (“Lufthansa” ), requesting an amendment of its foreign air carrier permit and an exemption to engage in: (1) Scheduled and charter foreign air transportation of persons, property, and mail from any point or points behind any Member State(s) of the European Union via any point or points in any Member State(s) and via intermediate points to any point or points in the United States and beyond; (2) scheduled and charter foreign air transportation of persons, property and mail between any point or points in the United States and any point or points in any member of the European Common Aviation Area; (3) scheduled and charter foreign cargo air transportation between any point or points in the United States and any point or points in any third country or countries; (4) other charter foreign air transportation of persons, property and mail; and (5) transportation authorized by any additional route or other rights made available to European Community carriers in the future.

Docket Number: OST-2007-29047.

Date Filed: August 16, 2007.

Due Date for Answers, Conforming Applications, or Motion to Modify Scope: September 6, 2007.

Description: Application of Continental Airlines, Inc. (“Continental”), requesting a certificate of public convenience and necessity authorizing Continental to provide scheduled foreign air transportation of persons, property, and mail between Houston, Texas and Buenos Aires, Argentina.

Renee V. Wright,
Program Manager, Docket Operations, Federal Register Liaison.

[FR Doc. E7-18585 Filed 9-19-07; 8:45 am]

BILLING CODE 4910-9X-P